DEPARTMENT OF AGRICULTURE

Forest Service

Siskiyou County Resource Advisory Committee

AGENCY: Forest Service, USDA.

ACTION: Notice of meeting.

SUMMARY: The Siskiyou County Resource Advisory Committee will meet in Yreka, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is for the committee to hear project status, review project proposals and to vote and make recommendations. The meeting is open to the public. Opportunity for public comment will be provided.

DATES: The meeting will be held Monday September 19, 2011 at 4 pm.

ADDRESSES: The meeting will be held at the Klamath National Forest Supervisor's Office, conference room, 1312 Fairlane Road, Yreka, CA 96097. Written comments may be submitted as described under SUPPLEMENTARY INFORMATION.

All comments, including names and addresses when provided, are placed in the record and are available for public inspection and copying. The public may inspect comments received at Klamath National Forest Supervisor's Office. Please call ahead to (530) 841-4484 to facilitate entry into the building to view comments.

FOR FURTHER INFORMATION CONTACT: Kerry Greene, Community Development and Outreach Specialist, Klamath National Forest, (530) 841-4484, kggreene@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information.

SUPPLEMENTARY INFORMATION: The following business will be conducted: project updates and financial status, and review of project proposals currently under consideration by the RAC. No new project proposals are being accepted at this time. The RAC will be prioritizing all projects received and passed this year and making their recommendations to the Designated Federal Official. This will be the final monthly meeting of the Siskiyou County RAC until further notice. The meeting is open to the public. Opportunity for public comment will be provided and individuals will have the opportunity to address the Committee at that time. Alternatively, anyone who would like to bring related matters to the attention of the committee may file written statements with the committee staff before or after the meeting. The agenda will include time for people to make oral statements of three minutes or less. Individuals wishing to make an oral statement should request in writing by September 1, 2011 to be scheduled on the agenda. Written comments and requests for time for oral comments must be sent to 1312 Fairlane Road Yreka, CA 96097, or by email to kggreene@fs.fed.us, or via facsimile to (530) 841-4571.

Dated: August 19, 2011.
Patricia A. Grantham,
Forest Supervisor.

[FR Doc. 2011-21836 Filed 8-24-11; 8:45 am]

BILLING CODE 3410-11-P